DEPARTMENT OF DEFENSE

Department of the Navy

Notice of Intent To Prepare an Environmental Impact Statement and Overseas Environmental Impact Statement for Navy Atlantic Fleet Training and Testing and To Announce Public Scoping Meetings

AGENCY: Department of the Navy, DoD.

ACTION: Notice.

SUMMARY: Pursuant to section 102 of the National Environmental Policy Act (NEPA) of 1969, as implemented by the Council on Environmental Quality Regulations (40 Code of Federal Regulations [CFR] Parts 1500-1508), and Executive Order 12114, the Department of the Navy (DON) announces its intent to prepare an Environmental Impact Statement (EIS) and Overseas EIS (OEIS) to evaluate the potential environmental effects associated with military readiness training and research, development, testing, and evaluation (RDT&E) activities (hereinafter referred to as “training and testing” activities) conducted within the Atlantic Fleet Training and Testing (AFTT) study area. The AFTT study area includes the western North Atlantic Ocean along the east coast of North America (including the area where the Undersea Warfare Training Range will be used), the Chesapeake Bay, and the Gulf of Mexico. Also included are select Navy pierside locations and channels. The AFTT study area does not include the Arctic. This EIS and OEIS is being prepared to renew and combine current regulatory permits and authorizations; address current training and testing not covered under existing permits and authorizations; and to obtain those permits and authorizations necessary to support force structure changes and emerging and future training and testing requirements.

The DON will invite the National Marine Fisheries Service to be a cooperating agency in preparation of this EIS and OEIS.

DATES AND ADDRESSES: Five public scoping meetings will be held between 4 p.m. and 8 p.m. on the following dates and at the following locations:

1. Monday, August 23, 2010, Hynes Convention Center, 900 Boylston Street, Boston, MA.

2. Wednesday, August 25, 2010, Virginia Beach Convention Center, 1000 19th Street, Virginia Beach, VA.

3. Thursday, August 26, 2010, Crystal Coast Civic Center, 3505 Arendell Street, Morehead City, NC.

4. Tuesday, August 31, 2010, Prime F. Osborn III Convention Center, 1000 Water Street, Jacksonville, FL.

5. Wednesday, September 1, 2010, Gulf Coast Community College, 5230 West Highway 98, Panama City, FL.

Each of the five scoping meetings will consist of an informal, open house session with informational stations staffed by DON representatives. Meeting details will be announced in local newspapers. Additional information concerning meeting times is available on the EIS and OEIS Web page located at: http://www.AFTTEIS.com.

FOR FURTHER INFORMATION CONTACT: Naval Facilities Engineering Command, Code EV22LL (AFTT EIS/OEIS Project Manager), 6506 Hampton Boulevard, Norfolk, VA 23508-1278, telephone number 757-322-4645.

SUPPLEMENTARY INFORMATION: The DON's proposed action is to conduct training and testing activities that include the use of active sonar and explosives within the at-sea portions of existing range complexes and on RDT&E ranges within the AFTT study area (including the area where the Undersea Warfare Training Range will be used). The boundary of the AFTT study area begins seaward from the mean high water line and moves east to the 45 degree west longitude line, generally following the 2nd Fleet area of responsibility (except for the Arctic). The AFTT study area covers approximately 2.6 million square nautical miles of ocean area, which includes Navy operating areas (sea space) and warning areas (airspace). While the majority of Navy training and many testing activities take place within operating and warning areas and/or on RDT&E ranges, some activities, such as sonar maintenance and gunnery exercises, are conducted concurrent with normal transits and occur outside of operating and warning areas.

The following DON training range complexes fall within the AFTT study area: Northeast Range Complex, Virginia Capes (VACAPES) Range Complex, Navy Cherry Point Range Complex, Jacksonville Range Complex, Key West Range Complex, and Gulf of Mexico (GOMEX) Range Complex. The DON RDT&E ranges in the AFTT study area include: Naval Undersea Warfare Center Newport, Newport, RI; Naval Surface Warfare Center (NSWC) Panama City Division, FL; and NSWC Carderock Division South Florida Test Facility, FL. The piers and channels in the AFTT study area are located at the following Navy ports, Naval Shipyards, and Navy contractor shipyards: Bath Iron Works, ME; Portsmouth Naval Shipyard, ME; Electric Boat and Naval Base Groton, CT; Northrop Grumman Shipbuilding—Newport News, VA; Norfolk Naval Base, VA; Norfolk Naval Shipyard, VA; Naval Amphibious Base Little Creek, VA; Naval Base Kings Bay, GA; Naval Base Mayport, FL; Port Canaveral, FL; Northrop Grumman Shipbuilding—Avondale, LA; Northrop Grumman Shipbuilding—Ingalls, MS; and, Halter Moss Point Shipyard, MS.

The proposed action is to conduct military training and testing activities in the AFTT study area. The purpose of the proposed action is to achieve and maintain Fleet Readiness to meet the requirements of Title 10 of the U.S. Code, which requires the DON to “maintain, train, and equip combat-ready naval forces capable of winning wars, deterring aggression, and maintaining freedom of the seas.” The proposed action would also allow the DON to attain compliance with applicable environmental authorizations, consultations, and other associated environmental requirements, including those associated with new platforms and weapons systems, for example, the Low Frequency Anti-Submarine Warfare capability associated with the Littoral Combat Ship.

The alternatives that will be analyzed in the AFTT EIS and OEIS meet the purpose and need of the proposed action by providing the level of training that meets the requirements of Title 10, thereby ensuring that Sailors and Marines are properly prepared for operational success. Similarly, the level of RDT&E proposed for the AFTT study area is necessary to ensure that Sailors and Marines deployed overseas have the latest proven military equipment. Accordingly, the alternatives to be addressed in the AFTT EIS and OEIS are:

1. No Action—The No Action Alternative continues baseline training and testing activities and force structure requirements as defined by existing DON environmental planning documents. This documentation includes the Records of Decision for Atlantic Fleet Active Sonar Training (AFAST), VACAPES, Navy Cherry Point, Jacksonville, and NSWC Panama City Division, and the Preferred Alternative for the GOMEX Draft EIS and OEIS.

2. Alternative 1—This alternative consists of the No Action alternative, plus expansion of the overall study area boundaries, and updates and/or adjustments to locations and tempo of training and testing activities. This alternative also includes changes to training and testing requirements necessary to accommodate force structure changes, and the development and introduction of new vessels, aircraft, and weapons systems.

3. Alternative 2—Alternative 2 consists of Alternative 1 with an increased tempo of training and testing activities. This alternative also allows for additional range enhancements and infrastructure requirements.

Resource areas that will be addressed due to the potential effects from the proposed action include, but are not limited to: Ocean and biological resources (including marine mammals and threatened and endangered species); air quality; airborne soundscape; cultural resources; transportation; regional economy; recreation; and public health and safety.

The scoping process will be used to identify community concerns and local issues to be addressed in the EIS and OEIS. Federal agencies, state agencies, local agencies, Native American Indian Tribes and Nations, the public, and interested persons are encouraged to provide comments to the DON to identify specific issues or topics of environmental concern that the commenter believes the DON should consider. All comments provided orally or in writing at the scoping meetings will receive the same consideration during EIS and OEIS preparation. Written comments must be postmarked no later than September 14, 2010, and should be mailed to: Naval Facilities Engineering Command, Atlantic, Code: EV22LL (AFTT EIS/OEIS Project Manager), 6506 Hampton Boulevard, Norfolk, VA, 23508-1278.

Dated: July 9, 2010.
D.J. Werner,
Lieutenant Commander, Office of the Judge Advocate General, U.S. Navy, Federal Register Liaison Officer.

[FR Doc. 2010-17237 Filed 7-14-10; 8:45 am]

BILLING CODE 3810-FF-P